DEPARTMENT OF TRANSPORTATION

Federal Aviation Administration

14 CFR Part 71

[Airspace Docket No. 01-AWP-16]

Establishment of a Class E Enroute Domestic Airspace Area, Las Vegas, NV

AGENCY: Federal Aviation Administration (FAA) DOT.

ACTION: Final rule; confirmation of effective date.

SUMMARY: This document confirms the effective date of a direct final rule which establishes a Class E enroute domestic airspace area beginning at 1,200 feet above ground level (AGL) in the vicinity of Las Vegas, NV and replaces existing Class G uncontrolled airspace.

EFFECTIVE DATE: 0901 UTC September 6, 2001.

ADDRESSES: Send comments on the direct final rule effective date in triplicate to: Federal Aviation Administration, Attn: Manager, Airspace Branch, AWP-520, Docket No. 01-AWP-16, Air Traffic Division, 15000 Aviation Boulevard, Lawndale, California 90261.

The official docket may be examined in the Office of the Assistant Chief Counsel, Western-Pacific Region, Federal Aviation Administration, Room 6007, 15000 Aviation Boulevard, Lawndale, California 90261.

An informal docket may also be examined during normal business hours at the Office of the Manager, Airspace Branch, Air Traffic Division at the above address.

FOR FURTHER INFORMATION CONTACT: Larry Tonish, Air Traffic Division, Airspace Specialist, AWP-520.10, Western-Pacific Region, Federal Aviation Administration, 15000 Aviation Boulevard, Lawndale, California 90261, telephone (310) 725-6539.

SUPPLEMENTARY INFORMATION: On June 18, 2001, the FAA published in the Federal Register a direct final rule; request for comments, which established a Class E enroute domestic airspace area beginning at 1,200 feet above ground level in the vicinity of Las Vegas, NV (FR Document 01-4680, 66 FR 32732, Airspace Docket No. 01-AWP-16). The FAA uses the direct final rulemaking procedure for a non-controversial rule where the FAA believes that there will be no adverse public comment. This direct final rule advised the public that no adverse comments were anticipated, and that unless a written adverse comment, or a written notice of intent to submit such an adverse comment, were received within the comment period, the regulation would become effective on September 6, 2001. No adverse comments were received; therefore this document confirms that this direct final rule will become effective 0901 UTC, on September 6, 2001.

Issued in Los Angeles, California, on August 8, 2001.
Dawna J. Vicars,
Acting Manager, Air Traffic Division, Western-Pacific Region.

[FR Doc. 01-21167 Filed 8-21-01; 8:45 am]

BILLING CODE 4910-13-M